NATIONAL FOUNDATION ON THE ARTS AND THE HUMANITIES

Institute of Museum and Library Services

Implementation of Executive Order 13891: Guidance Documents

AGENCY: Institute of Museum and Library Services, National Foundation on the Arts and the Humanities.

ACTION: Notice.

SUMMARY: Through this notice, the Institute of Museum and Library Services announces the existence and location of an online guidance portal. This portal is designed to enable the public and our stakeholders to easily locate the Institute's guidance documents.

DATES: The portal is online as of February 28, 2020.

ADDRESSES: The portal URL is www.imls.gov/guidance.

FOR FURTHER INFORMATION CONTACT: Nancy E. Weiss, General Counsel, Institute of Museum and Library Services, 955 L'Enfant Plaza North SW, 4th Floor, Washington, DC 20024. Email: nweiss@imls.gov. Telephone: (202) 653-4657.

SUPPLEMENTARY INFORMATION: Pursuant to Executive Order 13891, “Promoting the Rule of Law Through Improved Agency Guidance Documents,” and the implementing guidance from the Office of Management and Budget in memorandum M-20-02, the Institute of Museum and Library Services (IMLS) is establishing on its website a centralized guidance portal that contains or links to all IMLS guidance documents currently in effect. This guidance portal, located at www.imls.gov/guidance, does not replace the information contained in content-specific areas of the IMLS website. Individuals who already access IMLS guidance documents through these pages (such as our grants management pages) may continue to do so.

Dated: February 28, 2020.
Amanda Bakale,
Assistant General Counsel, Institute of Museum and Library Services.

[FR Doc. 2020-04454 Filed 3-3-20; 8:45 am]

BILLING CODE 7036-01-P